DEPARTMENT OF THE TREASURY

2 CFR Part 1000

RIN 1505-AC48

Uniform Administrative Requirements, Cost Principles, and Audit Requirements for Federal Awards

AGENCY: Department of the Treasury.

ACTION: Final rule.

SUMMARY: The Department of the Treasury publishes this rule to adopt as a final rule, without change, a joint interim final rule published with the Office of Management and Budget (OMB) for all federal award-making agencies that implemented guidance on Uniform Administrative Requirements, Cost Principles, and Audit Requirements for Federal Awards (Uniform Guidance). This rule is necessary to incorporate into regulation and thus bring into effect the Uniform Guidance as required by OMB for the Department of the Treasury.

DATES: Effective date: February 26, 2016.

FOR FURTHER INFORMATION CONTACT: Michael Briskin, Special Counsel to the Assistant General Counsel for General Law, Ethics & Regulation, (202) 622-0450.

SUPPLEMENTARY INFORMATION: On December 19, 2014, OMB published a rulemaking in the Federal Register finalizing the guidance on Uniform Administrative Requirements, Cost Principles, and Audit Requirements for Federal Awards (79 FR 75867). As a part of the same rulemaking, OMB issued the interim final Federal Awarding Agency Regulatory Implementation of Office of Management and Budget's Uniform Administrative Requirements, Cost Principles, and Audit Requirements for Federal Awards which contained a separate section for each federal awarding agency. Where applicable, agencies provided additional language beyond that included in 2 CFR part 200, consistent with their existing policy, to provide more detail with respect to how they intend to implement the policy, where appropriate. Treasury's regulations are contained in 2 CFR part 1000 (79 FR 76047).

The interim final rule went into effect on December 26, 2014. The public comment period for the interim final rule closed on February 17, 2015. The Department of the Treasury received no comments from members of the public in response to its section of the joint interim final rule. Accordingly, the Department adopts as a final rule without change the interim rule amending title 2 to add chapter X of the Code of Federal Regulations.

Procedural Matters

Executive Order 12866

This regulatory action is not a “significant regulatory action” under Executive Order 12866, “Regulatory Planning and Review,” 58 FR 51735 (October 4, 1993). Accordingly, this rule is not subject to review under the Executive Order by the Office of Information and Regulatory Affairs within the Office of Management and Budget.

Regulatory Flexibility Act

The Regulatory Flexibility Act (RFA) requires an agency that is issuing a final rule to provide a final regulatory flexibility analysis or certify that the rule will not have a significant economic impact on a substantial number of small entities. This action is not subject to the RFA. The RFA applies only to rules subject to notice and comment rulemaking requirements under the Administrative Procedure Act (APA), 5 U.S.C. 553, or any other statute. This rule is not subject to notice and comment requirements under the APA or any other statute because this rule pertains to grants, which the APA expressly exempts from notice and comment rulemaking requirements. 5 U.S.C. 553(a)(2).

Review Under Executive Order 13132

OMB determined that the joint interim final rule does not have any Federalism implications, as required by Executive Order 13132.

Review Under the Unfunded Mandates Reform Act of 1995

Section 202 of the Unfunded Mandates Reform Act of 1995 (Unfunded Mandates Act) (2 U.S.C. 1532) requires that covered agencies prepare a budgetary impact statement before promulgating a rule that includes any federal mandate that may result in the expenditure by state, local, and tribal governments, in the aggregate, or by the private sector, of $100 million or more in any one year. If a budgetary impact statement is required, section 205 of the Unfunded Mandates Act also requires covered agencies to identify and consider a reasonable number of regulatory alternatives before promulgating a rule. OMB determined that the joint interim final rule will not result in expenditures by state, local, and tribal governments, or by the private sector, of $100 million or more in any one year. Accordingly, this final rule adopting the interim final rule without change does not include a budgetary impact statement or specifically address the regulatory alternatives considered.

Congressional Review Act

This action is subject to the Congressional Review Act (5 U.S.C. 801), and the Department of the Treasury will submit a rule report to each House of the Congress and to the Comptroller General of the United States. This action is not a “major rule” as defined by 5 U.S.C. 804(2).

Accordingly, the interim rule amending title 2 to add chapter X of the Code of Federal Regulations, which was published at 79 FR 75867, on December 19, 2014, is adopted as a final rule without change.

Brodi Fontenot,
Assistant Secretary for Management, Department of the Treasury.

[FR Doc. 2016-01620 Filed 1-26-16; 8:45 am]

BILLING CODE 4810-25-P